DEPARTMENT OF JUSTICE

Notice of Lodging of Proposed Consent Decree Under the Clean Air Act

On January 21, 2020, the Department of Justice lodged a proposed consent decree with the United States District Court for the District of Colorado in the lawsuit entitled United States of America and the State of Colorado v. K.P. Kauffman Company, Inc., Civil Action No. 1:18-cv-02559-RBJ.

The lawsuit seeks injunctive relief and civil penalties for violations of the Clean Air Act, the Colorado Air Pollution Prevention and Control Act (“Colorado Act”), Colorado's federally approved State Implementation Plan (“Colorado SIP”), and Colorado Air Quality Control Commission Regulation Number 7 (“Regulation No. 7”) at condensate tank systems (referred to in the consent decree as “tank systems”) owned and operated by K.P. Kauffman Company, Inc. (“KPK”) in the Denver-Julesburg Basin in Colorado, an area designated as non-attainment for the National Ambient Air Quality Standards for ground-level ozone. The violations relate to alleged failures to adequately design, operate, and maintain vapor control systems at the tank systems, resulting in emissions of volatile organic compounds (“VOC”) and other pollutants to the atmosphere.

The proposed consent decree requires KPK to implement injunctive relief at 67 condensate tank systems to ensure that its vapor control systems adequately capture and control potential VOC emissions. The consent decree design, inspection, and preventative maintenance measures are intended to result in substantial reductions in VOC emissions from KPK tank systems throughout Colorado's Denver-Julesburg Basin. In addition to injunctive relief, the proposed Consent Decree requires KPK to pay a $1 million civil penalty, split evenly between the United States and the State of Colorado, and to undertake projects to mitigate environmental harm. Entering into and fully complying with the proposed consent decree will release KPK from past civil liability at the tank systems and associated vapor control systems for violations of the Colorado SIP and Regulation No. 7 relating to VOC emissions from condensate storage tanks.

The publication of this notice opens a period for public comment on the consent decree. Comments should be addressed to the Assistant Attorney General, Environment and Natural Resources Division, and should refer to United States, et al. v. K.P. Kauffman Company, Inc., D.J. Ref. No. 90-5-2-1-11478. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $31.25 (25 cents per page reproduction cost) payable to the United States Treasury.

Jeffrey Sands,
Assistant Section Chief, Environmental Enforcement Section, Environment and Natural Resources Division.

[FR Doc. 2020-01275 Filed 1-24-20; 8:45 am]

BILLING CODE 4410-15-P